FEDERAL COMMUNICATIONS COMMISSION

47 CFR Part 73

[MB Docket No. 13-236; Report No. 3057]

Petition for Reconsideration of Action in Rulemaking Proceeding

AGENCY: Federal Communications Commission.

ACTION: Petition for reconsideration.

SUMMARY: A Petition for Reconsideration (Petition) has been filed in the Commission's rulemaking proceeding by John R. Feore, on behalf of ION MEDIA NETWORKS, INC., and Colby M. May, on behalf of TRINITY CHRISTIAN CENTER OF SANTA ANA, INC.

DATES: Oppositions to the Petition must be filed on or before December 27, 2016. Replies to an opposition must be filed on or before January 6, 2017.

ADDRESSES: Federal Communications Commission, 445 12th Street SW., Washington, DC 20554.

FOR FURTHER INFORMATION CONTACT: Brendan Holland, Media Bureau, phone: (202) 418-2757, email: Brendan.Holland@fcc.gov.

SUPPLEMENTARY INFORMATION: This is a summary of the Commission's document, Report No. 3057, released December 1, 2016. The full text of the Petition is available for viewing and copying at the FCC Reference Information Center, 445 12th Street SW., Room CY-A257, Washington, DC 20554. It also may be accessed online via the Commission's Electronic Comment Filing System at https://www.fcc.gov/ecfs/filing/1123447502233/document/1123447502233fbd7. The Commission will not send a copy of this document pursuant to the Congressional Review Act, 5 U.S.C. 801(a)(1)(A), because this document does not have an impact on any rules of particular applicability.

Subject: National Television Multiple Ownership Rule, FCC 16-116, Report and Order, published at 81 FR 73035, October 24, 2016, in MB Docket No. 13-236. This document is being published pursuant to 47 CFR 1.429(e). See also 47 CFR 1.4(b)(1) and 1.429(f), (g).

Number of Petitions Filed: 1.

Federal Communications Commission.
Gloria J. Miles,
Federal Register Liaison Officer, Office of the Secretary.

[FR Doc. 2016-29611 Filed 12-9-16; 8:45 am]

BILLING CODE 6712-01-P